DEPARTMENT OF COMMERCE

International Trade Administration

Trade Mission to Central America in Conjunction With the Trade Americas—Opportunities in Central America Conference; July 15-19, 2013

AGENCY: International Trade Administration, Department of Commerce.

ACTION: Notice.

Mission Description

The United States Department of Commerce, International Trade Administration, U.S. and Foreign Commercial Service (USFCS) is organizing a trade mission to Central America, in conjunction with the Trade Americas—Opportunities in Central America Conference in San Jose, Costa Rica. U.S. trade mission delegation member participants will arrive in San Jose on or before July 15 to attend the opening ceremony of the Trade Americas—Opportunities in Central America Conference. Trade mission participants will attend the Conference on July 16. Following the Conference, participants will have the opportunity to participate in one-on-one business appointments arranged by USFCS. The following day, participants may choose to either stay in Costa Rica or travel to El Salvador, Honduras, Guatemala, Belize, or Nicaragua (choosing one) for additional one-on-one business appointments. Each one-on-one business appointment will be with a pre-screened potential buyer, agent, distributor or joint-venture partner. Participants will also be invited to networking events during the mission.

The 2013 Trade Americas—Opportunities in Central America Conference that trade mission delegation members will attend is an Americas focused business conference consisting of regional and industry specific conference sessions as well as pre-arranged consultations with USFCS Commercial Officers with expertise in commercial markets throughout the region.

The mission is open to U.S. companies from a cross section of industries with growing potential in Central America, but is focused on best prospects such as construction equipment/road building machinery, medical equipment and devices/laboratory scientific instruments, and safety and security equipment.

The combination of the Trade Americas—Opportunities in Central America Conference and business-to-business matchmaking opportunities in Costa Rica and another Central American country of the mission participant's choice will provide participants with substantive knowledge and strategies for entering or expanding their business across the Central America region.

Commercial Setting

El Salvador

The United States is El Salvador's leading trade partner. In 2011, El Salvador's Central Bank (BCR) reported that the United States had a 38% import market share, and that 46% of Salvadoran exports go to the United States. El Salvador's other top trading partners are located in Central America. El Salvador offers an open market for U.S. goods and services. Tariffs are relatively low, and were reduced further with the implementation of the Dominican Republic-Central America-United States Free Trade Agreement (CAFTA-DR). The value-added tax (VAT) rate in El Salvador is 13%. El Salvador's strategic location in Central America makes it a good platform for industrial and service investments aimed at re-exports.

Honduras

The United States is the chief trading partner for Honduras, supplying 46.2 percent of Honduran imports and purchasing 33.4 percent of Honduran exports in 2011 (excluding maquila trade). Bilateral trade between the United States and Honduras totaled $10.6 billion in 2011 and U.S. exports to Honduras continued to perform well in 2011 reaching $6.1 billion, an increase of 33 percent over 2010. Located in the heart of Central America, Honduras is the second largest country in the region. Its deep-water port, Puerto Cortés, is the first port in Latin America to qualify under both the Megaports and Container Security Initiatives (CSI), which now facilitate the screening of approximately 90 percent of transatlantic and transpacific cargo prior to importation into the United States.

Guatemala

The United States is Guatemala's main trading partner. Guatemalan GDP reached an estimated $46.8 billion in 2011 and exports from the United States to Guatemala were estimated at $6.2 billion, up approximately 39 percent from 2010. U.S. exports are expected to grow at a similar pace, at an estimated 30% per year, beyond 2013. U.S. products and services enjoy strong name recognition in Guatemala, and U.S. firms have a good reputation in the Guatemalan marketplace.

Costa Rica

The United States is Costa Rica's largest trading partner, accounting for about 40% of Costa Rica's total imports. U.S. products enjoy an excellent reputation for quality and price-competitiveness. Proximity to the Costa Rican market is also a major advantage for U.S. exporters who wish to visit or communicate with potential customers. The proximity facilitates close contacts and strong relationships with clients, both before and after the sale. The same holds true for agents and distributors, who typically represent U.S. exporters in the national market.

Belize

In 2011 and 2012, the U.S. remained Belize's principal trading partner. Belize is a consumer nation, relying heavily on imports. The United States provided over 38% of total Belizean merchandise imports in 2011. In 2011, $190.5 million in Belize's exports were destined for the U.S., and Belize was the destination for $355.7 million in imports from the United States.

Nicaragua

The United States is Nicaragua's largest trading partner, the source of roughly a quarter of Nicaragua's imports and the destination for approximately two-thirds of its exports (including free zone exports). U.S. exports to Nicaragua totaled $1.1 billion in 2011.

Mission Goals

The goal of the mission is to help participating U.S. companies find potential partners, agents, distributors, and joint venture partners in Costa Rica and, if requested, their choice of El Salvador, Honduras, Guatemala, Belize, and Nicaragua, laying the foundation for successful long-term ventures taking advantage of market opportunities in Central America, particularly those expanded by CAFTA-DR. The delegation will have access to USFCS Senior Commercial Officers, Commercial Specialists, and Department of State Economic Officers during the mission from the markets in the region, learn about the expansive business opportunities in Central America, and gain first-hand market exposure. U.S. delegation members already doing business in Central America will have the opportunity to further advance business relationships and explore new transactions in those markets.

Mission Scenario

The mission will include pre-screened individual appointments with potential business partners in any two Central American markets; industry and country market briefings; logistical support; networking with leading industry and government officials; and registration for the Trade Americas—Opportunities in Central America Conference, including conference materials and admission to all sessions and networking events.

U.S. delegation members will arrive in Costa Rica on or before July 15, 2013 to attend the opening ceremony of the Trade Americas—Opportunities in Central America Conference. On July 15-16, 2013 delegation members will participate in the Trade Americas—Opportunities in Central America Conference featuring market briefings on Central America business opportunities by trade and industry experts. On July15, 2013, during the Conference, delegation members will participate in pre-arranged, private consultations with Commercial and Economic Officers from the markets in the region, as well as service providers. On July 17-19, mission participants may stay in Costa Rica for Business-to-Business meetings or travel to El Salvador, Honduras, Guatemala, Belize or Nicaragua (choosing one) for additional business-to-business meetings.

Mission Timetable

July 14 Travel Day

July 15 Registration, Market Briefings, and Networking Reception

July 16 Trade Americas—Opportunities in Central America: Conference and Business Consultations

July 17 Business-to-Business Meetings in Costa Rica

July 18-19 Business-to-Business Meetings in (Choice of one stop):

(1) Honduras (OR)

(2) Guatemala (OR)

(3) El Salvador (OR)

(4) Belize (OR)

(5) Nicaragua

July 20 Travel Day

Participation Requirements

Other Products and Services

The foregoing analysis of export opportunities in Central America is not intended to be exhaustive, but illustrative of the many opportunities available to U.S. businesses. Applications from companies selling products or services generally within the scope of this mission will be considered and evaluated by the U.S. Department of Commerce.

All parties interested in participating in the U.S. and Foreign Commercial Service Trade Mission to Central America must complete and submit an application package for consideration by the Department of Commerce. All applicants will be evaluated on their ability to meet certain conditions and best satisfy the selection criteria as outlined below.

A minimum of 20 and a maximum of 30 companies will be selected to participate in the mission from the applicant pool on a first come, first served basis. Approximately eight companies will be selected to participate in Business-to-Business Meetings on July 17-19 in Costa Rica; 6 firms in Guatemala, and El Salvador; approximately three companies will be selected for Honduras; and approximately two companies will be selected for Belize and Nicaragua. U.S. companies already doing business in, or seeking to enter the market in Costa Rica, El Salvador, Honduras, Guatemala, Belize and/or Nicaragua for the first time may apply.

Fees and Expenses

After a company has been selected to participate on the mission, a payment to the Department of Commerce in the form of a participation fee is required.

For business to business meetings in Costa Rica only (not traveling to an additional trade mission country), the participation fee will be $2,100 for a small or medium-sized enterprise (SME) ¹* and $3,100 for large firms*.

¹ * An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

For business-to-business meetings in Costa Rica and another market, i.e. El Salvador OR Honduras OR Guatemala OR Belize OR Nicaragua, the participation fee will be $2,800 for a small or medium-sized enterprise (SME)* and $3,800 for large firms*.

The mission registration fee also includes the Trade Americas—Opportunities in Central America Conference registration fee of $450 for one participant from each firm, market briefing, networking reception, interpreters associated with the conference and business consultations. There will be a $300 fee for each additional firm representative (large firm or SME) that wishes to participate in Business-to-Business meetings after the conference.

Expenses for travel, lodging, most meals, and incidentals (e.g., local transportation, interpreters) will be the responsibility of each mission participant.

Intergovernmental Cooperation and Assistance for Small Businesses

The U.S. Small Business Administration is partnering with State trade organizations to promote increased trade and exporting through the State Trade and Export Promotion (STEP) program. As part of this program, some States are offering financial assistance for U.S. small businesses to assist them in pursuing export opportunities, such as through participation on a Department of Commerce trade mission. Small businesses interested in more information about the STEP in their State are encouraged to contact their State STEP representative (contact information available by clicking on the interactive map at www.sba.gov/step) to learn more about the resources and assistance offered by their State trade organization.

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

Selection will be based on the following criteria:

• Suitability of the company's products or services to each of the markets the company has expressed an interest in visiting as part of this trade mission.

• Company's potential for business in each of the markets the company has expressed an interest in visiting as part of this trade mission.

• Consistency of the applicant's goals and objectives with the stated scope of the mission.

Referrals from political organizations and any documents containing references to partisan political activities (including political contributions) will be removed from an applicant's submission and not considered during the selection process.

Timeframe for Recruitment and Applications

Mission recruitment will be conducted in an open and public manner, including publication in the Federal Register, posting on the Commerce Department trade mission calendar on www.export.gov, the Trade Americas Web page at (http://export.gov/tradeamericas/tradeevents/trademissions/centralamericajuly2013/index.asp), and other Internet Web sites, press releases to the general and trade media, direct mail and broadcast fax, notices by industry trade associations and other multiplier groups and announcements at industry meetings, symposia, conferences, and trade shows.

Recruitment for the mission will begin immediately and conclude no later than May 17, 2013. The U.S. Department of Commerce will review applications and make selection decisions on a rolling basis until the maximum of 30 participants are selected beginning March 15, 2013. After May 17, 2013, companies will be considered only if space and scheduling constraints permit.

U.S. Contact Information:

Jessica Gordon, U.S. Export Assistance Center—Jackson, MS, Jessica.Gordon@trade.gov, Tel: 601-373-0784

Diego Gattesco, U.S. Export Assistance Center—Wheeling WV, Diego.Gattesco@trade.gov, Tel: 304-243-5493

Central America Contact Information:

Angela Dawkins, Commercial Officer, U.S. Commercial Service—El Salvador, Angela.Dawkins@trade.gov

Maria Rivera, Regional Commercial Specialist, U.S. Commercial Service—El Salvador, Maria.Rivera@trade.gov

Elnora Moye,
Trade Program Assistant.

[FR Doc. 2013-05525 Filed 3-8-13; 8:45 am]

BILLING CODE 3510-FP-P